DEPARTMENT OF HOMELAND SECURITY

Coast Guard

33 CFR Part 117

[Docket No. USCG-2010-0892]

Drawbridge Operation Regulation; Back Bay of Biloxi, Harrison County, MS

AGENCY: Coast Guard, DHS.

ACTION: Notice of temporary deviation from regulations.

SUMMARY: The Commander, Eighth Coast Guard District, has issued a temporary deviation from the regulation governing the operation of the I-110 (HWY 15) bridge across the Back Bay of Biloxi, mile 3.0, between Biloxi and D'Iberville, Harrison County, Mississippi. This deviation is necessary to allow timely bridge rehabilitation to extend the bridge life, optimize traffic and boat operations, and improve overall traffic, boat and pedestrian safety. This deviation allows the bridge to remain closed with limited exception.

DATES: This deviation is effective from 12:01 a.m. on January 4, 2011, through 11:59 p.m. on May 30, 2011.

ADDRESSES: Documents mentioned in this preamble as being available in the docket are part of docket USCG-2010-0892 and are available online by going to http://www.regulations.gov, inserting USCG-2010-0892 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Jim Wetherington, Bridge Management Specialist, District 8 Bridge Branch, U.S. Coast Guard; telephone 504-671-2132 e-mail james.r.wetherington@uscg.mil. If you have questions on viewing the docket, call Renee V. Wright, Program Manager, Docket Operations, telephone 202-366-9826.

SUPPLEMENTARY INFORMATION: The I-110 (HWY 15) bridge across the Back Bay of Biloxi, mile 3.0, between Biloxi and D'Iberville, Harrison County, Mississippi, has a vertical clearance of 60 feet above mean high water in the closed position. Presently, the draw opens on signal if at least six hours notice is given as required by 33 CFR 117.675(a).

The Mississippi Department of Transportation requests a deviation to allow the bridge to remain closed to marine traffic except for Mondays and Thursdays at 6 a.m. but only with a 72 hour advanced request to open. The request should be made by telephone to 877-486-8044. This deviation will allow the rehabilitation of the bridge to be completed in a timely fashion. This rehab is necessary to extend the bridge life, optimize traffic and boat operations, and improve overall traffic, boat and pedestrian safety. Any vessel that does not require an opening of the drawspan may pass at any time.

In accordance with 33 CFR 117.261(a), Public vessels of the United States and tugs with tow must be passed through the drawspan at any time.

In accordance with 33 CFR 117.31(b)(2), the drawspan shall be opened for vessels in distress where a delay would endanger life or property.

In accordance with 33 CFR 117.35(e), the drawbridge must return to its regular operating schedule immediately at the end of the designated time period.

This deviation from the operating regulations is authorized under 33 CFR 117.35. This deviation may be terminated/cancelled at anytime via Broadcast Notice to Mariners.

Dated: October 5, 2010.
David M. Frank,
Bridge Administrator.

[FR Doc. 2010-26098 Filed 10-15-10; 8:45 am]

BILLING CODE 9110-04-P